DEPARTMENT OF TRANSPORTATION

Pipeline and Hazardous Materials Safety Administration

[Docket No. PHMSA-2006-23998; Notice 1]

Pipeline Safety: Request for Waiver; Rockies Express Pipeline

AGENCY: Pipeline and Hazardous Materials Safety Administration (PHMSA); DOT.

ACTION: Notice of intent to consider waiver request.

SUMMARY: The Rockies Express Pipeline LLC (Rockies Express) has requested a waiver of compliance from the pipeline safety regulation that prescribes the design factor to be used in the design formula for steel pipe. The waiver will allow Rockies Express to operate at hoop stresses up to 80 percent specified minimum yield strength (SMYS) in Class 1 locations.

DATES: Persons interested in submitting comments regarding this waiver request must do so by April 21, 2006.

ADDRESSES: Comments should reference Docket No. PHMSA-2006-23998 and may be submitted in the following ways:

• The DOT Web site: http://dms.dot.gov. To submit comments on the DOT electronic docket site, click “Comment/Submissions,” click “Continue,” fill in the requested information, click “Continue,” enter your comment, then click “Submit.”

• Fax: 202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web site: http://www.Regulations.gov. This site allows the public to enter comments on any Federal Register notice issued by any agency.

Instructions for submitting comments: You should identify the docket number (PHMSA-2006-23998) at the beginning of your comments. If you submit your comments by mail, please submit two copies. If you wish to receive confirmation that PHMSA received your comments, please include a self-addressed stamped postcard. Internet users may submit comments at http://www.regulations.gov, and may access all comments received by DOT at http://dms.dot.gov by performing a simple search for the docket number.

Note: All comments will be posted without changes or edits to http://dms.dot.gov, including any personal information provided.

Privacy Act Statement: Anyone may search the electronic form of all comments received for any of our dockets. You may review DOT's complete Privacy Act Statement in the Federal Register published on April 11, 2000 (65 FR 19477) or you may visit http://dms.dot.gov.

FOR FURTHER INFORMATION CONTACT: James Reynolds by telephone at 202-366-2786; by fax at 202-366-4566; by mail at DOT, Pipeline and Hazardous Materials Safety Administration (PHMSA), Pipeline Safety Program (PHP), 400 7th Street, SW., Room 2103, Washington, DC 20590; or by e-mail at james.reynolds@dot.gov.

SUPPLEMENTARY INFORMATION:

Background

Rockies Express Pipeline LLC (Rockies Express) requests a waiver of compliance from the regulatory requirements at 49 CFR 192.111. This regulation prescribes the design factor to be used in the design formula in § 192.105. The design factors are found in the following table:

Class location | Design factor (F)
1 | 0.72
2 | 0.60
3 | 0.50
4 | 0.40

Rockies Express has begun construction on a 1,323-mile interstate natural gas pipeline. When complete, the 42-inch diameter pipeline will transport natural gas from Colorado and Wyoming to markets in the upper Midwest and Eastern United States. The waiver will allow Rockies Express to operate its pipeline at hoop stresses up to 80 percent SMYS in Class 1 locations. Rockies Express Pipeline LLC is a joint development of Kinder Morgan Energy Partners, L.P. and Sempra Pipelines & Storage, a unit of Sempra Energy. Rockies Express will operate its pipeline at a maximum allowable operating pressure (MAOP) of 1480 pounds per square inch gauge.

Rockies Express' long-term plan is to construct the pipeline in two or three phases from west to east: Western, Central, and Eastern.

• The Western segment of the project is comprised of approximately 710 miles of 42-inch pipeline extending from the Cheyenne Hub to an interconnection with Panhandle Eastern Pipe Line Company in Audrain County, Missouri.

• The Central segment will be comprised of approximately 425 miles of 42-inch pipeline extending from the terminus of the Western segment in Audrain County, Missouri to the Lebanon Hub in Lebanon, Ohio.

• The Eastern segment will be comprised of approximately 188 miles of 42-inch pipeline extending from the terminus of the Central segment at Lebanon, Ohio to a terminus at or near Clarington, Ohio.

System Description

The Rockies Express pipeline will be constructed of steel pipe utilizing Kinder Morgan's Material Standard M8270, X-70 and X-80 Grade High Strength, High Toughness Welded Line Pipe for High-Pressure Transmission Service. The Class 1 line pipe for the proposed Rockies Express pipeline will be API 5L Grade X80 or X70 longitudinal seam submerged arc welded pipe or helical seam welded pipe as specified in Kinder Morgan's Material Standard M8270. The pipe will be externally coated with fusion bond epoxy (FBE) and the field weld joints will be externally coated with field applied FBE.

The welding process on Rockies Express Pipeline Project will be 100 percent nondestructively tested. Any imperfections discovered will be repaired or removed prior to putting the line in-service. The Rockies Express Pipeline will be hydrostatically tested at no less then 100 percent SMYS. Prior to commissioning the pipeline for gas service, the pipeline will be surveyed with a multi-channel geometry smart tool capable of detecting anomalies including dents and buckles.

The Rockies Express pipeline will be located in a common right-of-way with other pipelines for approximately 90 percent of the pipeline route. Kinder Morgan will install variable resistance bonds between the various pipelines and metallic structures sharing the right-of-way to eliminate stray electrical currents, and to equalize the voltage potentials between the Rockies Express pipeline and other underground metallic structures.

Risk Analysis

Kinder Morgan conducted a risk analysis for Rockies Express and compared the risk associated with using a 0.80 design criteria to using a 0.72 design criteria. Kinder Morgan determined that there is no significant increase in the risk associated with using the 0.80 design criteria for this type of pipe. Kinder Morgan has taken under consideration the following nine risk areas: (1) Stress corrosion cracking; (2) manufacturing defects; (3) weather/outside factors; (4) welding and fabrication defects; (5) equipment failure; (6) equipment impact (third party damage); (7) external corrosion; (8) internal corrosion; and (9) incorrect operation.

According to Kinder Morgan, only in the areas of external corrosion, internal corrosion, and, incorrect operation did the risk analysis show a slightly higher degree of risk associated with using a 0.80 design factor. Kinder Morgan asserts that the pipe wall designed with a 0.80 design factor indicates a slightly higher risk factor because it is manufactured with a thinner wall pipe than the pipe designed with a 0.72 design factor. Kinder Morgan further states that because the pipe designed with a 0.80 design factor operates at higher stress levels, the factor of safety between the MAOP and the pipe's SMYS is reduced. Kinder Morgan and Rockies Express indicated that they will employ several control and prevention programs to mitigate these increased risks.

For the reasons stated, Rockies Express is requesting a waiver from the regulatory requirements at 49 CFR 192.111 for its Rockies Express Pipeline Project, and is seeking to operate its new interstate Rockies Express pipeline at hoop stresses up to 80 percent SMYS in Class 1 locations.

PHMSA will consider Rockies Express' waiver request and whether its proposal will yield an equivalent or greater degree of safety than that currently provided by the regulations. After considering any comments received, PHMSA may grant Rockies Express' waiver request as proposed, with modifications and conditions, or deny the request. If the waiver is granted and PHMSA subsequently determines the effect of the waiver is inconsistent with pipeline safety, PHMSA reserves the right to revoke the waiver at anytime.

Authority: 49 U.S.C. 60118(c) and 49 CFR 1.53.

Issued in Washington, DC, on March 17, 2006.
Theodore L. Willke,
Deputy Associate Administrator for Pipeline Safety.

[FR Doc. 06-2831 Filed 3-21-06; 8:45 am]

BILLING CODE 4910-60-P